FEDERAL COMMUNICATIONS COMMISSION

47 CFR Part 73

[DA 17-757]

Radio Broadcasting Services; Various Locations

AGENCY: Federal Communications Commission.

ACTION: Final rule.

SUMMARY: This document amends the FM Table of Allotments, of the Commission's rules, by reinstating certain vacant FM allotments. These FM allotments are considered vacant because of the cancellation of the associated authorizations and licenses, or the dismissal of long-form auction applications. These vacant FM allotments have previously undergone notice and comment rule making. Reinstatement of the vacant allotments is merely a ministerial action to effectuate licensing procedures. Therefore, we find for good cause that further notice and comment are unnecessary.

DATES: Effective September 6, 2017.

FOR FURTHER INFORMATION CONTACT: Rolanda F. Smith, Media Bureau, (202) 418-2700.

SUPPLEMENTARY INFORMATION: This is a synopsis of the Commission's Order, adopted August 10, 2017 and released August 11, 2017. The full text of this Commission decision is available for inspection and copying during normal business hours in the FCC's Reference Information Center at Portals II, CY-A257, 445 Twelfth Street, SW., Washington, DC 20554. The full text is also available online at http://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

Provisions of the Regulatory Flexibility Act of l980 do not apply to this proceeding.

For information regarding proper filing procedures for comments, see 47 CFR 1.415 and 1.420.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 303, 309, 310, 334, 336 and 339.

2. In § 73.202(b), amend the Table of FM Allotments as follows:

a. Add Leupp, Channel 293C1; remove Channel 232C3 and add in its place Channel 234C1 at Overgaard; add Parker, Channel 257C2 and Paulden, Channel 228C3; remove Channel 258C2 and add in its place Channel 259C2 at Snowflake; and add Tusayan, Channel 222C1, under Arizona;

b. Add Strong, Channel 296C3, under Arkansas;

c. Add Alturas, Channel 277C, Boonville, Channel 300A, Cedarville, Channel 238A, Ft. Bragg, Channel 253C1; and remove Channel 269A and add in its place Channel 258A at Portola, under California;

d. Add Battlement Mesa, Channel 275C3, Dinosaur, Channel 262C1, Eckley, Channel 257C1, Hugo, Channel 222A, and Walden, Channel 226A, under Colorado;

e. Add Plains, Channel 290A, under Georgia;

f. Remove Channel 252A and add in its place Channel 291A at Abingdon, under Illinois;

g. Remove Channel 242A and add in its place Channel 222A at Florien, under Louisiana;

h. Add Lake Isabella, Channel 255A, and Onekama, Channel 227C3, under Michigan;

i. Add Grand Marais, Channel 245C3, under Minnesota;

j. Add Bourbon, Channel 231A and Eminence, Channel 281A, under Missouri;

k. Add Cut Bank, Channel 265C2, under Montana;

l. Add Bayard, Channel 251A, under Nebraska;

m. Add Jefferson, Channel 247A, under New Hampshire;

n. Add Des Moines, Channel 287C and Skyline-Ganipa, Channel 240A, under New Mexico;

o. Add Narrowsburg, Channel 275A, under New York;

p. Add Medina, Channel 222C1 and Sarles, Channel 290C1, under North Dakota;

q. Remove Channel 285C2 and add in its place Channel 293C2 at Arnett; add Cheyenne, Channel 247C2, Coalgate, Channel 242A, Covington, Channel 290A, Savanna, Channel 275A, and Wayne, Channel 266A, under Oklahoma;

r. Add Diamond Lake, Channel 251A, Huntington, Channel 228C1, and Vale, Channel 288C, under Oregon;

s. Add Edgemont, Channel 289C1, under South Dakota;

t. Add Albany, Channel 255A, Benjamin, Channel 237C3, Big Lake, Channels 246A, 252C2, 281C1, and 296C3, Channel 289A at Cotulla, Crystal Beach, Channel 268A, Dalhart, Channel 261C2, Dilley, Channel 291A, Channel 283A at Encino, Freer, Channel 288A; remove Channel 275A and add in its place Channel 277A at Goree; add Hamlin, Channel 283C2; Channel 297A at Knox City; Marquez, Channel 296A; remove Channels 221C2 and 227C3 and add in their place Channels 244C2 and 276C3 at Matador; add Channel 237C3 at McCamey; remove Channel 267C3 and add in its place Channel 298C3 at McLean; remove Channels 242A and 265C2 and add in their place Channel 265A and 292A at Menard; add Channel 224A at Mullin, Olney, Channel 282A, Channel 287A at Premont, Roscoe, Channel 228A, Channel 255A at San Isidro, Sanger, Channel 281C3, Trinity, Channel 251A; remove Channel 244C2 and add in its place Channel 221C2 at Turkey; add Wellington, Channels 248C3 and 253C3, Westbrook, Channel 272A, under Texas;

u. Add Paragonah, Channel 258A, under Utah;

v. Add Hardwick, Channel 290A and West Rutland, Channel 298A, under Vermont;

w. Remove Channel 225A and add in its place Channel 258A at New Holstein, under Wisconsin; and

x. Remove Channel 235A and add in its place Channel 235C3 at Bairoil; add Basin, Channel 299C1; remove Channel 242C2 and add in its place Channel 242A at Dubois; add Lusk, Channel 242A, Pine Bluffs, Channel 287A, and Wheatland, Channel 286A, under Wyoming.

§ 73.202 Table of Allotments.

* * * * *

(b) Table of FM Allotments.

* * * * *
ARIZONA
* * * * *
Leupp | 293C1
Overgaard | 234C1
Parker | 257C2
Paulden | 228C3
* * * * *
Snowflake | 259C2
* * * * *
Tusayan | 222C1
ARKANSAS
* * * * *
Strong | 296C3
CALIFORNIA
Alturas | 277C
* * * * *
Boonville | 300A
* * * * *
Cedarville | 238A
* * * * *
Ft. Bragg | 253B1
* * * * *
Portola | 258A
* * * * *
COLORADO
* * * * *
Battlement Mesa | 275C3
Dinosaur | 262C1
* * * * *
Eckley | 257C1
Hugo | 222A
* * * * *
Walden | 226A
* * * * *
GEORGIA
* * * * *
Plains | 290A
* * * * *
ILLINOIS
Abingdon | 291A
* * * * *
LOUISIANA
* * * * *
Florien | 222A
* * * * *
MICHIGAN
* * * * *
Lake Isabella | 255A
* * * * *
Onekama | 227C3
MINNESOTA
* * * * *
Grand Marais | 245C3
* * * * *
MISSOURI
Bourbon | 231A
* * * * *
Eminence | 281A
* * * * *
MONTANA
* * * * *
Cut Bank | 265C2
* * * * *
NEBRASKA
Bayard | 251A
* * * * *
NEW HAMPSHIRE
* * * * *
Jefferson | 247A
* * * * *
NEW MEXICO
* * * * *
Des Moines | 287C
* * * * *
Skyline-Ganipa | 240A
* * * * *
NEW YORK
* * * * *
Narrowsburg | 275A
* * * * *
NORTH DAKOTA
Medina | 222C1
Sarles | 290C1
* * * * *
OKLAHOMA
* * * * *
Arnett | 293C2
Cheyenne | 247C2
* * * * *
Coalgate | 242A
* * * * *
Covington | 290A
* * * * *
Savanna | 275A
* * * * *
Wayne | 266A
* * * * *
OREGON
* * * * *
Diamond Lake | 251A
Huntington | 228C1
* * * * *
Vale | 288C
* * * * *
SOUTH DAKOTA
* * * * *
Edgemont | 289C1
* * * * *
TEXAS
Albany | 255A
* * * * *
Benjamin | 237C3
Big Lake | 246A, 252C2, 281C1, 296C3
* * * * *
Cotulla | 264A, 289A
* * * * *
Crystal Beach | 268A
* * * * *
Dalhart | 261C2
* * * * *
Dilley | 291A
* * * * *
Encino | 250A, 283A
* * * * *
Freer | 288A
* * * * *
Goree | 277A
* * * * *
Hamlin | 283C2
* * * * *
Knox City | 293A, 297A
* * * * *
Marquez | 296A
* * * * *
Matador | 244C2, 276C3
* * * * *
McCamey | 233C3, 237C3
McLean | 298C3
* * * * *
Menard | 265A, 292A
* * * * *
Mullin | 224A, 277A
* * * * *
Olney | 282A
* * * * *
Premont | 264C3, 287A
* * * * *
Roscoe | 228A
* * * * *
San Isidro | 255A, 278A
* * * * *
Sanger | 281C3
* * * * *
Trinity | 251A
Turkey | 221C2, 269A
* * * * *
Wellington | 248C2, 253C3
* * * * *
Westbrook | 272A
* * * * *
UTAH
* * * * *
Paragonah | 258A
* * * * *
VERMONT
* * * * *
Hardwick | 290A
West Rutland | 298A
* * * * *
WISCONSIN
* * * * *
New Holstein | 258A
* * * * *
WYOMING
* * * * *
Bairoil | 235C3
Basin | 299C1
Dubois | 242A
* * * * *
Lusk | 242A
* * * * *
Pine Bluffs | 287A
Wheatland | 286A
* * * * *

* * * * *

[FR Doc. 2017-18831 Filed 9-5-17; 8:45 am]

BILLING CODE 6712-01-P